DEPARTMENT OF HOUSING AND URBAN DEVELOPMENT

[Docket No. FR-7080-N-39]

30-Day Notice of Proposed Information Collection: ConnectHomeUSA; OMB Control No.: 2577-New

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: September 11, 2024.

ADDRESSES: Interested persons are invited to submit comments regarding this proposal. Written comments and recommendations for the proposed information collection can be sent within 30 days of publication of this notice to www.reginfo.gov/public/do/PRAMain. Find this particular information collection by selecting “Currently under 30-day Review—Open for Public Comments” or by using the search function. Interested persons are also invited to submit comments regarding this proposal by name and/or OMB Control Number and should be sent to: Colette Pollard, Reports Management Officer, REE, Department of Housing and Urban Development, 451 7th Street SW, Room 8210, Washington, DC 20410; telephone (202) 402-3400 (this is not a toll-free number) or email: PaperworkReductionActOffice@hud.gov.

FOR FURTHER INFORMATION CONTACT: Colette Pollard, Reports Management Officer, REE, Department of Housing and Urban Development, 7th Street SW, Room 8210, Washington, DC 20410; email Colette.Pollard@hud.gov or telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on March 26, 2024 at 89 FR 20994.

A. Overview of Information Collection

Title of Information Collection: ConnectHomeUSA Community Reporting Forms.

OMB Approval Number: N/A.

Type of Request: New.

Form Number: Form numbers have not yet been assigned.

Description of the need for the information and proposed use: These are new forms that will allow HUD to capture characteristics (e.g., urban/rural, building configuration, construction materials, geographic locations (e.g. rural, suburban)) of communities that are selected to join the ConnectHomeUSA initiative. The forms will also allow communities to submit their goals and progress to HUD. The information submitted will allow HUD staff to monitor participating communities' progress and provide technical assistance to communities falling short of their goals.

Respondents: Staff responsible for ConnectHomeUSA activities working at Public Housing Authorities, tribes, Multifamily properties, Continuum of Care and Housing Opportunities for Persons with AIDS (HOPWA) grantees.

Estimated Number of Respondents: 150.

Estimated Number of Responses: 900 in year 1; 600 in subsequent years.

Frequency of Response: Two forms will be used once, the third form will be used quarterly over a period of three years.

Average Hours per Response: Total estimated burden for all three forms is 6.

Total Estimated Burdens: 1,800 hours in year 1; 1,200 hours in years 2 and 3.

HUD-form | Total respondents | # Responses per year | Burden hours per response | Total hours per year | Cost per hour | ($) Total cost
1 General Community Form | 150 | 1 | 1 | 150 | $22.46 | $3,369
2 ConnectHome USA Goal-Setting Form | 150 | 1 | 3 | 450 | 22.46 | 10,107
3 ConnectHomeUSA Quarterly Reporting | 150 | 4 | 2 | 1,200 | 22.46 | 26,952
Totals | 900 | 6 | 6 | 1,800 | 22.46 | 40,428

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2024-17806 Filed 8-9-24; 8:45 am]

BILLING CODE 4210-67-P